DEPARTMENT OF ENERGY

Federal Energy Regulatory Commission

[Docket No. EL15-61-000]

Benjamin Riggs v. Rhode Island Public Utilities Commission Notice of Petition For Enforcement

Take notice that on April 21, 2015, Benjamin Riggs (Petitioner) filed a Petition for Enforcement, pursuant to section 210(h)(2) of the Public Utility Regulatory Policies Act of 1978 (PURPA), requesting the Federal Energy Regulatory Commission (Commission) to exercise its authority and initiate enforcement action against the Rhode Island Public Utilities Commission to ensure that PURPA regulations are properly and lawfully implemented. Petitioner alleges that the Rhode Island Public Utility Commission on August 16, 2010, as directed by the Rhode Island General Assembly, approved a 20-year Purchase Power Agreement between Deepwater Wind Block Island, LLC and National Grid that appears to constitute a violation of the Federal Power Act, to include 16 U.S.C. 791 et seq., 16 U.S.C. 824, and the Supremacy Clause of the U.S. Constitution.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 12, 2015.

Dated: April 22, 2015.
Nathaniel J. Davis, Sr.,
Deputy Secretary.

[FR Doc. 2015-09809 Filed 4-27-15; 8:45 am]

BILLING CODE 6717-01-P